DEPARTMENT OF HEALTH AND HUMAN SERVICES

Indian Health Service

60-Day Proposed Information Collection; Request for Public Comment: Indian Health Service Contract Health Services Report

AGENCY: Indian Health Service.

ACTION: Notice.

SUMMARY: In compliance with Section 3506(c)(2)(A) of the Paperwork Reduction Act of 1995 which requires 60 days for public comment on proposed information collection projects, Indian Health Service (IHS) is publishing for comment a summary of a proposed information collection to be submitted to the Office of Management and Budget (OMB) for review.

Proposed Collection: Title: 0917-0002, “IHS Contract Health Service Report.” Type ofInformation Collection Request: Extension, without change, of a currently approved information collection, 0917-0002, “IHS Contract Health Service Report.” Form Number: IHS 843-1A. The form can be found on the Public Use Forms Web page(s) at the IHS Web site (http://www.ihs.gov/cio/puf/) and the Department of Health and Human Services' Web site (http://www.hhs.gov/forms/publicuse.html).

Need and Use of Information Collection: The IHS Contract Health Service (CHS) Program, located in the Office of Resource Access and Partnerships, needs this information to certify that the health care services requested and authorized by the IHS have been performed by the CHS provider(s) to have providers validate services provided; to process payments for health care services performed by such providers; and to serve as a legal document for health and medical care authorized by IHS and rendered by health care providers under contract with the IHS. Affected Public: Patients, health and medical care providers or Tribal Governments. Type of Respondents: Health and medical care providers.

Burden Hours: The table below provides: Types of data collection instruments, Estimated number of respondents, Number of responses per respondent, Average burden hour per response, and Total annual burden hours.

Data collection instrument(s) | Estimated number of respondents | Responses per respondent | Average burden hour per response * | Total annual burden hours
IHS 843-1A | 7,977 | 52 | 3/60 | 20,740
Total |  |  |  | 20,740
* For ease of understanding, burden hours are also provided in actual minutes.

The total estimated burden for this collection is 20,740 hours.

There are no Capital Costs, Operating Costs, and/or Maintenance Costs to report.

Request for Comments: Your written comments and/or suggestions are invited on one or more of the following points: (a) Whether the information collection activity is necessary to carry out an agency function; (b) whether the IHS processes the information collected in a useful and timely fashion; (c) the accuracy of the public burden estimate (this is the amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Further Information: Send your written comments and requests for more information on the proposed collection or requests to obtain a copy of the data collection instrument(s) and instructions to: Tamara Clay, IHS Reports Clearance Officer, 801 Thompson Avenue, TMP, Suite 450, Rockville, MD 20852; call non-toll free (301) 443-1611; send via facsimile to (301) 443-2316, or send your email requests, comments, and return address to tamara.clay@ihs.gov.

Comment Due Date: Your comments regarding this information collection are best assured of having their full effect if received within 60-days of the date of this publication.

Dated: November 9, 2012.
Yvette Roubideaux,
Director, Indian Health Service.

[FR Doc. 2012-28236 Filed 11-20-12; 8:45 am]

BILLING CODE 4165-16-P